NUCLEAR REGULATORY COMMISSION

[Docket No. 50-389; NRC-2015-0235]

Florida Power and Light Company St. Lucie Plant, Unit 2

AGENCY: Nuclear Regulatory Commission.

ACTION: 10 CFR 2.206 request; receipt.

SUMMARY: The U.S. Nuclear Regulatory Commission (NRC) is giving notice that by petition dated March 10, 2014, as supplemented, the Southern Alliance for Clean Energy (SACE, the petitioner) has requested that the NRC take enforcement action with regard to Florida Power and Light Company (FPL or the licensee). The petitioner's requests are included in the SUPPLEMENTARY INFORMATION section of this document.

ADDRESSES: Please refer to Docket ID NRC-2015-0235 when contacting the NRC about the availability of information regarding this document. You may obtain publicly-available information related to this document using any of the following methods:

• Federal Rulemaking Web site: Go to http://www.regulations.gov and search for Docket ID NRC-2015-0235. Address questions about NRC dockets to Carol Gallagher; telephone: 301-415-3463; email: Carol.Gallagher@nrc.gov.

• NRC's Agencywide Documents Access and Management System (ADAMS): You may obtain publicly available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email at pdr.resource@nrc.gov. The ADAMS accession number for each document referenced (if that document is available in ADAMS) is provided the first time that a document is referenced.

• NRC's PDR: You may examine and purchase copies of public documents at the NRC's PDR, Room O1-F21, One White Flint North, 11555 Rockville Pike, Rockville, Maryland 20852.

SUPPLEMENTARY INFORMATION: By letter dated March 10, 2014 (ADAMS Accession No. ML14071A431), as supplemented,¹ SACE requested a hearing and that the NRC revoke the de facto license amendment for the replacement of the steam generators (SGs) under section 50.59 of Title 10 of the Code of Federal Regulations (10 CFR). As the basis for this request, the petitioner stated that the § 50.59 process was incorrectly applied and that replacement of the SGs should have required a license amendment under 10 CFR 50.90. The petitioner stated concerns with how the licensee implemented the § 50.59 process.

¹ Supplements (ADAMS Accession Nos. ML14071A431, ML14115A457, ML14115A458, ML14125A514, ML14128A557, ML14143A412, ML14147A523, ML14310A811, and ML14337A792).

However, the Commission, by a Memorandum and Order (CLI-14-11) ² dated December 19, 2014, referred the SACE's hearing request to the Executive Director for Operations for disposition under 10 CFR 2.206.

² Commission Memorandum and Order dated December 19, 2014 (ADAMS Accession No. ML14353A114).

The request is being treated pursuant to 10 CFR 2.206 of the NRC's regulations. The NRC staff has reviewed the petition and its supplements and referred the request to the Director of the Office of Nuclear Reactor Regulation. The Director determined that the petitioner's request partially meets the criteria for review under 10 CFR 2.206 and partially meets the criteria for rejection.

The parts of the petition that met the criteria for rejection are the SACE's concerns related to the inspection of the replacement SGs, as well as the concerns regarding the effects of the extended power uprate on SG tube inservice inspection and flow-induced effects on the SG internals. These items meet one criterion for rejection in accordance with Management Directive (MD) 8.11, on the basis that these issues have already been reviewed, evaluated, and resolved by the NRC staff. However, the NRC staff determined that part of the petition that addresses SACE's concerns regarding the licensee's application of the § 50.59 process, with respect to the change in a methodology as described in the Updated Final Safety Analysis Report, meets the criteria for review of a petition under 10 CFR 2.206. The NRC staff will take appropriate action on this petition within a reasonable time as provided by 10 CFR 2.206.

Dated at Rockville, Maryland, this 28th day of September 2015.
For the Nuclear Regulatory Commission.
William M. Dean,
Director, Office of Nuclear Reactor Regulation.

[FR Doc. 2015-25696 Filed 10-7-15; 8:45 am]

BILLING CODE 7590-01-P